NUCLEAR REGULATORY COMMISSION

[NRC-2009-0556]

Draft Regulatory Guide: Issuance, Availability

AGENCY: Nuclear Regulatory Commission.

ACTION: Notice of Issuance and Availability of Draft Regulatory Guide, DG-8032.

FOR FURTHER INFORMATION CONTACT: Mohammad S. Saba, U.S. Nuclear Regulatory Commission, Washington, DC 20555-0001, telephone: (301) 251-7558 or e-mail to Mohammad.Saba@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Planned Special Exposures,” is temporarily identified by its task number, DG-8032, which should be mentioned in all related correspondence. DG-8032 is a proposed Revision 1 of Regulatory Guide 8.35, dated June 1992.

In the revised Title 10, of the Code of Federal Regulations, Part 20, “Standards for Protection Against Radiation” (10 CFR Part 20), (10 CFR 20.1201(b) and 10 CFR 20.1206, “Planned Special Exposures,” provide the conditions and limits for planned special exposures (PSEs) of adult workers (i.e., doses in addition to and accounted for separately from the doses received under the limits specified in 10 CFR 20.1201, “Occupational Dose Limits for Adults.” In addition, 10 CFR 20.2104(b) and 10 CFR 20.2104(e)(2) specify the requirements for obtaining prior occupational dose information, and 10 CFR 20.2105, “Records of Planned Special Exposures,” and 10 CFR 20.2106, “Records of Individual Monitoring Results,” specify the requirements for exposure and monitoring records applicable to PSEs. The requirements for reporting PSEs appear in 10 CFR 20.2202(e) and in 10 CFR 20.2204, “Reports of Planned Special Exposures.”

This regulatory guide provides guidance on the conditions and prerequisites for permitting PSEs allowed by 10 CFR Part 20, the associated specific monitoring and reporting requirements, and examples of acceptable means of satisfying these requirements.

II. Further Information

ADDRESSES: You may submit comments by any one of the following methods. Please include Docket ID NRC-2009-0556 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2009-0556. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

Federal Rulemaking Web site: Public comments and supporting materials related to this notice can be found at http://www.regulations.gov by searching on Docket ID: NRC-2009-0556.

Requests for technical information about DG-8032 may be directed to the NRC contact, Mohammad S. Saba at (301) 251-7558 or e-mail to Mohammad.Saba@nrc.gov.

Comments would be most helpful if received by March 11, 2010. Comments received after that date will be considered if it is practical to do so, but the NRC is able to ensure consideration only for comments received on or before this date. Although a time limit is given, comments and suggestions in connection with items for inclusion in guides currently being developed or improvements in all published guides are encouraged at any time.

Electronic copies of DG-8032 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML09177035.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 7th day of December 2009.
For the Nuclear Regulatory Commission.
Harriet Karagiannis,
Acting Chief, Regulatory Guide Development Branch, Division of Engineering, Office of Nuclear Regulatory Research.

[FR Doc. E9-29655 Filed 12-11-09; 8:45 am]

BILLING CODE 7590-01-P